ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, January 11-13, 2010, at the times and location noted below.

DATES: The schedule of events is as follows:

Monday, January 11, 2010

11-Noon Budget Committee.

1:30-3:30 p.m. Ad Hoc Committees (Closed to Public).

3:30-5 Planning and Evaluation Committee.

Tuesday, January 12, 2010

9:30-11:30 a.m. Committee of the Whole; Reauthorization of the Rehabilitation Act.

1:30-4 p.m. Technical Programs Committee.

Wednesday, January 13, 2010

9:30-11 a.m. U.S. Postal Service Presentation on Accessibility Program.

1:30-3 p.m. Board Meeting.

ADDRESSES: All meetings will be held at the Embassy Suites DC Convention Center Hotel, 900 10th Street, NW., Washington, DC 20001.

FOR FURTHER INFORMATION CONTACT: For further information regarding the meetings, please contact David Capozzi, Executive Director, (202) 272-0010 (voice) and (202) 272-0082 (TTY).

SUPPLEMENTARY INFORMATION: At the Board meeting scheduled on Wednesday, January 13, the Access Board will consider the following agenda items:

• Approval of the draft September 11, 2009 meeting minutes.

• Budget Committee Report.

• Planning and Evaluation Committee Report.

• Technical Programs Committee Report.

• Committee of the Whole Report.

• Ad Hoc Committee Reports.

• Executive Director's Report.

• ADA and ABA Guidelines; Federal Agency Updates.

All meetings are accessible to persons with disabilities. An assistive listening system, computer assisted real-time transcription (CART), and sign language interpreters will be available at the Board meeting. Persons attending Board meetings are requested to refrain from using perfume, cologne, and other fragrances for the comfort of other participants (see http://www.access-board.gov/about/policies/fragrance.htm for more information).

David M. Capozzi,
Executive Director.

[FR Doc. E9-29992 Filed 12-16-09; 8:45 am]

BILLING CODE 8150-01-P